DEPARTMENT OF ENERGY

[GDO Docket No. PP-412-1]

Application To Amend Presidential Permit; Lake Erie Connector Transmission, LLC

AGENCY: Grid Deployment Office, Department of Energy.

ACTION: Notice of application.

SUMMARY: Lake Erie Connector Transmission, LLC (LEC Transmission or Applicant) has applied to amend Presidential Permit No. PP-412 to reflect a change in upstream ownership and related name change.

DATES: Comments, protests, or motions to intervene must be submitted on or before September 11, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038. On April 10, 2023, the authority to issue such permits was delegated to the DOE's Grid Deployment Office by Delegation Order No. S1-DEL-S3-2023 and Redelegation Order No. S3-DEL-GD1-2023.

On January 12, 2017, DOE issued Presidential Permit No. PP-412, authorizing ITC Lake Erie Connector to construct, connect, operate, and maintain a 345-kilovolt (kV) transmission line at the international border between the United States and Canada. On March 29, 2024, LEC Transmission filed an application with DOE (Application or App.) requesting to amend Presidential Permit No. PP-412 to reflect a change in the upstream ownership from ITC Project Holdings, LLC to Lake Erie Holdings, LLC and related name change from ITC Lake Erie Connector to LEC Transmission. App. at 2.

According to the Application, on January 31, 2024, Lake Erie Holdings, LLC, a subsidiary of NextEra Energy, Inc. and direct, wholly owned subsidiary of NextEra Energy Transmission, LLC, “acquired 100 percent of the ownership interests in ITC Project Holdings, LLC, the indirect upstream owner of ITC Lake Erie Connector.” Id. The Applicant states that “[f]ollowing the Transaction, the legal name of ITC Lake Erie Connector was changed to LEC Transmission.” Id. LEC Transmission requests that DOE amend Presidential Permit No. PP-412 to reflect the correct legal name of the project company following NextEra Energy's acquisition of ITC Lake Erie Connector. Id. at 2-3.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning LEC Transmission's Application should be clearly marked with GDO Docket No. PP-412-1. Additional copies are to be provided directly to Justin Moeller, NextEra Energy, Inc., 801 Pennsylvania Avenue NW, Suite 220 Washington, DC, 20004, Justin.Moeller@nee.com and John M. Kopinski, NextEra Energy Transmission, LLC, 700 Universe Blvd., Juno Beach, FL, 33408, John.Kopinski@nexteraenergy.com.

Before a Presidential permit may be issued, DOE must determine whether the proposed action is in the public interest. In making that determination, DOE will consider the environmental impacts of the proposed action (i.e., granting the Presidential permit, with any conditions and limitations, or denying the permit) pursuant to DOE's National Environmental Policy Act Implementing Procedures (10 CFR part 1021); determine the Applicant's proposed project's impact on electric reliability by ascertaining whether the proposed project would adversely affect the operation of the U.S. electric power supply system under normal and contingency conditions; and weigh any other factors that DOE may also consider relevant to the public interest. DOE also must obtain the favorable recommendation of the Secretary of State and the Secretary of Defense before taking final action on a Presidential permit application.

LEC Transmission's Application may be reviewed or downloaded electronically at www.energy.gov/gdo/pending-applications-0 or by emailing Electricity.Exports@hq.doe.gov. Copies of this Application will be made available, upon request, by accessing the program website at https://www.energy.gov/gdo/pending-applications-0 or by emailing Electricity.Exports@hq.doe.gov.

Signing Authority: This document of the Department of Energy was signed on August 2, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 7, 2024.
Treena V. Garrett,
Federal Register Liaison Officer, U.S. Department of Energy.

[FR Doc. 2024-17890 Filed 8-9-24; 8:45 am]

BILLING CODE 6450-01-P